COMMISSION ON CIVIL RIGHTS

Notice of Public Meeting of the Tennessee Advisory Committee, Revision of Virtual Meeting Platform and Additional Meeting Information

AGENCY: Commission on Civil Rights.

ACTION: Notice; revision of virtual meeting platform and additional meeting information.

SUMMARY: The Commission on Civil Rights is holding a meeting of the Tennessee Advisory Committee on Wednesday, August 24, 2022, at 12 p.m. (CT). This notice revises the meeting date and virtual meeting information. The notice is in the Federal Register of Wednesday, August 3, 2022 on FR Doc 2022-13390, in the second column of page 37496 and the first column of 37497.

FOR FURTHER INFORMATION CONTACT: Victoria Moreno, (434) 515-0204, vmoreno@usccr.gov.

Revision: The meeting will now take place on Wednesday, August 24, 2022, at 12:00 p.m. (CT) and not Wednesday, August 3, 2022.

Replace Webex virtual details as follows: https://civilrights.webex.com/civilrights/j.php?MTID=mab53dc5460800e198ea35953e0241884.

Join via phone: 800-360-9505 USA Toll Free; Access Code: 2763 908 5121#.

Dated: August 9, 2022.
David Mussatt,
Supervisory Chief, Regional Programs Unit.

[FR Doc. 2022-17390 Filed 8-11-22; 8:45 am]

BILLING CODE P